DEPARTMENT OF AGRICULTURE

Animal and Plant Health Inspection Service

9 CFR Part 78

[Docket No. 01-095-2]

Brucellosis: Testing of Rodeo Bulls

AGENCY: Animal and Plant Health Inspection Service, USDA.

ACTION: Final rule.

SUMMARY: We are amending the brucellosis regulations by eliminating the annual brucellosis testing requirement for rodeo bulls moving interstate between brucellosis Class Free States. This action is based on our determination that the testing requirement for rodeo bulls moving between such States is more restrictive than the requirements for other test-eligible cattle, given that other cattle moving between Class Free States are not required to be tested for brucellosis. This action updates our brucellosis regulations by making the requirements for moving rodeo bulls more consistent with those for moving other test-eligible cattle between Class Free States.

EFFECTIVE DATE: November 22, 2002.

FOR FURTHER INFORMATION CONTACT: Dr. Debra Cox, Staff Veterinarian, National Animal Health Programs, VS, APHIS, 4700 River Road Unit 43, Riverdale, MD 20737-1231; (301) 734-6954.

SUPPLEMENTARY INFORMATION:

Background

The brucellosis regulations contained in 9 CFR part 78, subpart B (referred to below as the regulations) restrict the interstate movement of cattle in order to prevent the spread of brucellosis. Brucellosis is a contagious disease affecting animals and humans, caused by bacteria of the genus Brucella.

The regulations provide a system for classifying States or portions of States according to the rate of Brucella infection present and the general effectiveness of a State's brucellosis eradication program. The classifications are Class Free, Class A, Class B, and Class C. States or areas that do not meet the minimum standards for Class C are placed under Federal quarantine. The brucellosis Class Free classification is based on a finding of no known brucellosis in cattle for the 12 months preceding classification or reclassification as Class Free.

The regulations in § 78.14 have required rodeo bulls moving interstate to be tested for brucellosis once every 365 days. Since other test-eligible cattle being moved from a Class Free State are not required to be tested for brucellosis, this requirement for rodeo bulls moving between such States is more restrictive than the requirements for other test-eligible cattle.

On April 25, 2002, we published in the Federal Register (67 FR 20460-20461, Docket No. 01-095-1) a proposal to amend the brucellosis regulations by eliminating the annual brucellosis testing requirement for rodeo bulls moving interstate between brucellosis Class Free States. The proposal was intended to update our brucellosis regulations by making the requirements for moving rodeo bulls more consistent with those for moving other test-eligible cattle between Class Free States.

We solicited comments concerning our proposal for 60 days ending June 24, 2002. We received seven comments by that date. They were from industry and State government representatives, a representative of a rodeo cowboys' association, and members of the general public. Six of the seven commenters wrote in favor of the proposed rule.

The remaining commenter stated that he favored continuing the practice of having rodeo bulls tested for brucellosis when traveling interstate, but did not provide any information other than that statement.

We would point out that we are not eliminating the brucellosis testing requirement entirely. It will remain in effect for rodeo bulls moved between States that are not brucellosis Class Free. Secondly, as noted in our proposal, with 48 of the 50 States now classified as brucellosis Class Free, the risk of brucellosis transmission via interstate movement of rodeo bulls has been greatly reduced. Having more restrictive requirements for rodeo bulls than for other test-eligible cattle no longer appears necessary. Therefore, we are not making any changes in response to this comment

Therefore, for the reasons given in the proposed rule and in this document, we are adopting the proposed rule as a final rule, without change.

In this rule, we are also updating the authority citation for 9 CFR part 78 to reflect the enactment of the Animal Health Protection Act (7 U.S.C. 8301 et seq.).

Effective Date

This is a substantive rule that relieves restrictions and, pursuant to the provisions of 5 U.S.C. 553, may be made effective less than 30 days after publication in the Federal Register.

This rule eliminates the annual brucellosis testing requirement for rodeo bulls moving interstate between brucellosis Class Free States and relieves stock contractors who raise and supply bulls for rodeo events of the financial burden associated with the testing. Therefore, the Administrator of the Animal and Plant Health Inspection Service has determined that this rule should be effective upon publication in the Federal Register.

Executive Order 12866 and Regulatory Flexibility Act

This rule has been reviewed under Executive Order 12866. The rule has been determined to be not significant for the purposes of Executive Order 12866 and, therefore, has not been reviewed by the Office of Management and Budget.

This rule amends the brucellosis regulations in § 78.14 by eliminating the annual brucellosis testing requirement for rodeo bulls moving interstate in cases where the bulls are being moved only between brucellosis Class Free States.

This rule primarily affects stock contractors who raise and supply bulls for rodeo events. More specifically, this rule affects stock contractors who are located in States other than Texas and Missouri—the only two States not currently classified as Class Free States—and who do not move their bulls interstate to Texas and Missouri. The number of stock contractors who fall into this category, as well as the total number of stock contractors nationally, is unknown.

Those stock contractors who move their bulls interstate only between Class Free States will realize a cost savings of about $25 to $30 per animal per year (i.e., the cost of a brucellosis test and associated veterinary fees). Thus, a stock contractor with 20 bulls will see a savings of about $500 to $600 per year in testing expenses.

While stock contractors are not specifically categorized in the Small Business Administration's (SBA) table of small business size standards, they could be considered under either Subsector 112 of that table (Animal Production), which has a small entity threshold of $750,000, or Subsector 711 (Performing Arts, Spectator Sports and Related Industries), which has a small entity threshold of $6 million in annual sales. According to the National Agricultural Statistics Service, over 99 percent of all operations raising cattle and calves ($750,000 threshold) are small entities, while large operations account for less than 1 percent. Therefore, it is likely that most, if not all, stock contractors would be considered small entities under SBA size standards.

Given that the savings per animal in foregone testing costs ($25 to $30) can be expected to make up only a small percentage of the total expenses associated with maintaining a rodeo bull (e.g., feed and routine veterinary care), the economic impact of this rule is expected to be small.

Under these circumstances, the Administrator of the Animal and Plant Health Inspection Service has determined that this action will not have a significant economic impact on a substantial number of small entities.

Executive Order 12372

This program/activity is listed in the Catalog of Federal Domestic Assistance under No. 10.025 and is subject to Executive Order 12372, which requires intergovernmental consultation with State and local officials. (See 7 CFR part 3015, subpart V.)

Executive Order 12988

This final rule has been reviewed under Executive Order 12988, Civil Justice Reform. This rule: (1) Preempts all State and local laws and regulations that are in conflict with this rule; (2) has no retroactive effect; and (3) does not require administrative proceedings before parties may file suit in court challenging this rule.

Paperwork Reduction Act

This final rule contains no information collection or recordkeeping requirements under the Paperwork Reduction Act of 1995 (44 U.S.C. 3501 et seq.).

List of Subjects in 9 CFR Part 78

Animal diseases, Bison, Cattle, Hogs, Quarantine, Reporting and recordkeeping requirements, Transportation.

Accordingly, we are amending 9 CFR part 78 as follows:

PART 78—BRUCELLOSIS

1. The authority citation for part 78 is revised to read as follows:

Authority: 7 U.S.C. 8303-8306, 8308, 8310, 8313, and 8315; 7 CFR 2.22, 2.80, and 371.4.

2. Section 78.14 is amended by revising paragraph (a)(1) to read as follows:

§ 78.14 Rodeo bulls.

(a) * * *

(1) The bull is classified as brucellosis negative based upon an official test conducted less than 365 days before the date of interstate movement: Provided, however, That the official test is not required for a bull that is moved only between Class Free States;

* * * * *

Done in Washington, DC, this 19th day of November 2002 .
Peter Fernandez,
Acting Administrator, Animal and Plant Health Inspection Service.

[FR Doc. 02-29753 Filed 11-21-02; 8:45 am]

BILLING CODE 3410-34-P